COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and a service to the Procurement List that will be furnished by nonprofit agencies employing persons who are blind or have other severe disabilities.

Comments Must Be Received On Or Before: 11/10/2014.

ADDRESSES: Committee for Purchase From People Who Are Blind or Severely Disabled, 1401 S. Clark Street, Suite 10800, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 USC 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Rice, Long Grain, Parboiled

NSN: 8920-01-E62-4281—6/10 lb. Pkgs

NSN: 8920-01-E62-4280—2/10 lb. Pkgs

NPA: Vision Corps, Lancaster, PA

Contracting Activity: Defense Logistics Agency Troop Support, Philadelphia, PA

Coverage: C-List for 100% of the requirement of the Department of Defense, as aggregated by the Defense Logistics Agency Troop Support, Philadelphia, PA.

Laminating Pouch, Thermal, 3 Mil Thickness, Letter size

NSN: 9330-00-NIB-0003—100/BX

NSN: 9330-00-NIB-0004—25/BX

NSN: 9330-00-NIB-0005—50/BX

NSN: 9330-00-NIB-0007—100/BX

NPA: LC Industries, Inc., Durham, NC

Contracting Activity: General Services Administration, Fort Worth, TX

Coverage: A-List for the Total Government Requirement as aggregated by the General Services Administration, Fort Worth, TX.

NSN: MR 1070—Brush, Power Scrub

NSN: MR 1071—Brush, Kitchen

NSN: MR 1074—Broom, Corn

NSN: MR 1081—Brush, Toilet Bowl

NSN: MR 1082—Broom, Large, Angle

NPA: Alphapointe, Kansas City, MO

Contracting Activity: NEXCOM-Navy Exchange Service Command, Virginia Beach, VA

Coverage: C-List for the requirements of Navy Exchanges as aggregated by the Navy Exchange Service Command (NEXCOM), Virginia Beach, VA.

NSN: MR 10669—Kit, Party, New Year's

NPA: Winston-Salem Industries for the Blind, Inc., Winston-Salem, NC

Contracting Activity: Defense Commissary Agency, Fort Lee, VA

Coverage: C-List for the requirements of military commissaries and exchanges as aggregated by the Defense Commissary Agency, Fort Lee, VA.

Service

Service Type/Location: Internal Mail and Messenger Service, U.S. Department of State, Harry S. Truman Building, 2201 C Street NW., Washington, DC

NPA: ServiceSource, Inc., Alexandria, VA

Contracting Activity: Department of State, Office of Acquisition Mgmt—MA, Arlington, VA

Barry S. Lineback,
Director, Business Operations.

[FR Doc. 2014-24243 Filed 10-9-14; 8:45 am]

BILLING CODE 6353-01-P